ENVIRONMENTAL PROTECTION AGENCY

[OAR-2003-0078, FRL-7581-5]

Agency Information Collection Activities; Submission to OMB for Review and Approval; Comment Request; Landfill Methane Outreach Program, EPA ICR Number 1849.02, OMB Control Number 2060-0446

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on October 31, 2003. Under OMB regulations, the Agency may continue to conduct or sponsor the collection of information while this submission is pending at OMB. This ICR describes the nature of the information collection and its estimated burden and cost.

DATES: Additional comments may be submitted on or before December 1, 2003.

ADDRESSES: Submit your comments, referencing docket ID number OAR-2003-0078, to (1) EPA online using EDOCKET (our preferred method), by e-mail to a-and-r-docket@epamail.epa.gov, or by mail to: EPA Docket Center (EPA/DC), Environmental Protection Agency, Air and Radiation Docket and Information Center, Mail Code 6102T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Brian Guzzone, Climate Protection Partnerships Division, Office of Atmospheric Programs, (Mail Code 6202J), Environmental Protection Agency, 1200 Pennsylvania Ave., NW., Washington, DC 20460; telephone number: (202) 343-9248; fax number: (202) 565-2079; e-mail address: guzzone.brian@epa.gov.

SUPPLEMENTARY INFORMATION: EPA has submitted the following ICR to OMB for review and approval according to the procedures prescribed in 5 CFR 1320.12. On June 18, 2003 (68 FR 36546), EPA sought comments on this ICR pursuant to 5 CFR 1320.8(d). Three comments were received and addressed by EPA in the ICR.

EPA has established a public docket for this ICR under OAR-2003-0078, which is available for public viewing at the Air and Radiation Docket and Information Center in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket and Information Center is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Landfill Methane Outreach Program.

Abstract: The Landfill Methane Outreach Program (LMOP) is an EPA-sponsored voluntary program that encourages landfill owners, communities, and project developers to reduce emissions of methane, a potent greenhouse gas, by implementing landfill gas technologies that collect and utilize the methane as a source of energy. The Landfill Methane Outreach Program further encourages utilities and other energy customers to support and promote the use of landfill methane at their facilities. The Landfill Methane Outreach Program signs voluntary Memoranda of Understanding (MOU) with these organizations to enlist their support in promoting cost-effective landfill gas utilization. The information collection includes completion and submission of the MOU, and annual online completion and submission of information forms that include basic information on the organizations that sign the MOU and landfill methane projects in which they are involved. The information collection is to be utilized to maintain up-to-date data and information about Landfill Methane Outreach Program partners and landfill methane projects in which they are involved. In addition, the information collection will assist LMOP to evaluate the reduction of methane emissions from landfills.

An agency may not conduct or sponsor, and a person is not required to respond to, a collection of information unless it displays a currently valid OMB control number. The OMB control numbers for EPA's regulations are listed in 40 CFR part 9 and 48 CFR chapter 15.

Burden Statement: The annual public reporting and recordkeeping burden for this collection of information is estimated to average 3.5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: This information collection will encompass a wide variety of respondents. Community partners include local agencies and municipalities that own landfills. State agencies involved in energy, air pollution, and solid waste management are represented through State partners. Industry partners include manufacturers and suppliers of equipment and knowledge needed to capture and utilize landfill gas. This includes engine and turbine manufacturers, engineering firms, construction companies, and environmental consultants. Industry partners also include companies involved in the logistics of developing LFGE projects such as law firms and financing companies. Energy partners include utility companies who purchase the energy generated from the landfills, power marketers, and the end users of energy from the landfill. The end user is potentially the most diverse category. Any facility located near a landfill that utilizes fuel either in manufacturing products or heating the facility is a potential energy end user.

Estimated Number of Respondents: 315.

Frequency of Response: Initial, Annual, and On Occasion.

Estimated Total Annual Hour Burden: 1,533.

Estimated Total Annual Cost: $89,630, which includes $744 for O&M costs.

Changes in the Estimates: There is an increase of 49 hours in the total estimated burden currently identified in the OMB Inventory of Approved ICR Burdens. This increase is due to an increase in the number of partners.

Dated: October 27, 2003.
Doreen Sterling,
Acting Director, Collection Strategies Division.

[FR Doc. 03-27478 Filed 10-30-03; 8:45 am]

BILLING CODE 6560-50-P